ENVIRONMENTAL PROTECTION AGENCY

40 CFR Part 81

[CAO-37-FIN; FRL-7017-3]

Clean Air Act Attainment Finding; Bullhead City and Payson Nonattainment Areas, Arizona; Sacramento and San Bernardino Nonattainment Areas, California; Particulate Matter of 10 Microns or Less (PM-10)

AGENCY: Environmental Protection Agency (EPA).

ACTION: Proposed rule.

SUMMARY: EPA is proposing to determine that the Bullhead City and Payson PM-10 nonattainment areas in Arizona and the Sacramento and San Bernardino PM-10 nonattainment areas in California have attained the National Ambient Air Quality Standard (NAAQS) for PM-10 by the applicable December 31, 2000 attainment date. This determination is based upon monitored air quality data for the PM-10 NAAQS during the years 1998-2000. This determination of attainment does not redesignate the Bullhead City, Payson, Sacramento and San Bernardino areas to attainment for PM-10. The Clean Air Act requires that, for an area to be redesignated, five criteria must be satisfied including the submitttal of a maintenance plan as a State Implementation Plan (SIP) revision.

DATES: Any comments on this proposal must arrive by August 24, 2001.

ADDRESSES: Mail comments to Eleanor Kaplan, Air Planning Office (AIR-2), Environmental Protection Agency, Region 9, 75 Hawthorne Street, San Francisco, CA 94105-3901.

FOR FURTHER INFORMATION CONTACT: Eleanor Kaplan, Air Planning Office (AIR-2), U.S. Environmental Protection Agency, Region IX, (415) 744-1159 or kaplan.eleanor@epa.gov.

SUPPLEMENTARY INFORMATION: Throughout this document, wherever “we”, “us”, or “our” are used, we mean the Environmental Protection Agency (EPA).

Table of Contents

I. Background

A. What National Ambient Air Quality Standards (NAAQS) are considered in today's proposed finding?

B. What is the designation and classification of these PM-10 nonattainment areas?

C. How do we make attainment determinations?

II. Basis for EPA's Proposed Action

A. What is the history behind this proposed action?

B. How did we determine that these areas attained the PM-10 NAAQS?

III. EPA's Proposed Action

A. Determination that the following nonattainment PM-10 areas have attained the PM-10, NAAQS as of December 31, 2000.

1. Bullhead City

2. Payson

3. Sacramento

4. San Bernardino

IV. Administrative Requirements

I. Background

A. What National Ambient Air Quality Standards (NAAQS) Are Considered in Today's Proposed Finding?

Particulate matter with an aerodynamic diameter of less than 10 micrometers (PM-10) is the pollutant that is the subject of this action. The NAAQS are safety thresholds for certain ambient air pollutants set by EPA to protect public health and welfare. PM-10 is among the ambient air pollutants for which EPA has established a health-based standard.

PM-10 causes adverse health effects by penetrating deep in the lung, aggravating the cardiopulmonary system. Children, the elderly, and people with asthma and heart conditions are the most vulnerable.

On July 1, 1987 (52 FR 24634), EPA revised the NAAQS for particulate matter with an indicator that includes only those particles with an aerodynamic diameter less than or equal to a nominal 10 micrometers. (See 40 CFR 50.6).

The 24-hour primary PM-10 standard is 150 micrograms per cubic meter (μg/m³) with no more than one expected exceedance per year. The annual primary PM-10 standard is 50 μg/m³ as an annual arithmetic mean. The secondary PM-10 standards, promulgated to protect against adverse welfare effects, are identical to the primary standards.

B. What Is the Designation and Classification of These PM-10 Nonattainment Areas?

Upon enactment of the 1990 Clean Air Act Amendments (Act), PM-10 areas meeting the requirements of either (i) or (ii) of section 107(d)(4)(B) of the Act were designated nonattainment for PM-10 by operation of law and classified “moderate”. See generally, 42 U.S.C. 7407(d)(4)(B). These areas included all former Group I PM-10 planning areas identified in 52 FR 29383 (August 7, 1987) and further clarified in 55 FR 45799 (October 31, 1990), and any other areas violating the NAAQS for PM-10 prior to January 1, 1989 (many of these areas were identified by footnote 4 in the October 31, 1990 Federal Register document). A Federal Register notice announcing the areas designated nonattainment for PM-10 upon enactment of the 1990 Amendments, known as “initial” PM-10 nonattainment areas, was published on March 15, 1991 (56 FR 11101). A subsequent Federal Register document correcting some of these areas was published on August 8, 1991 (56 FR 37654). These nonattainment designations and moderate area classifications were codified in 40 CFR part 81 in a Federal Register document published on November 6, 1991 (56 FR 56694). All other areas in the nation not designated nonattainment at enactment were designated unclassifiable (see section 107(d)(4)(B)(iii) of the Act).

In January and February of 1991, we notified the Governors of those States which recorded violations of the PM-10 standard after January 1, 1989 that EPA believed that those areas should be redesignated as nonattainment for PM-10. In September 1992 we proposed that several areas be redesignated nonattainment for PM-10 and took final action on December 21, 1993 (58 FR 67335). Bullhead City and Payson in Arizona and Sacramento and San Bernardino in California were among those areas listed. The effective date of the final action redesignating these areas as nonattainment for the PM-10 NAAQS was January 20, 1994. However the current Code of Federal Regulations (CFR), 40 CFR 81.303, gives an incorrect date, namely January 20, 1990, for the designation of Bullhead City to nonattainment. We are therefore in this proposal correcting the § 81.303 so that the date of Bullhead City's designation to nonattainment is January 20, 1994. Under section 188(c)(1) of the Act, the applicable attainment date is to be no later than the sixth calendar year after the area's designation as a moderate nonattainment area for the PM-10 NAAQS. Given that the effective date occurred in 1994, the applicable attainment date for these areas is no later than December 31, 2000.

C. How Do We Make Attainment Determinations?

Pursuant to sections 179(c) and 188(b)(2) of the Act, we have the responsibility of determining within six months of the applicable attainment date whether, based on air quality data, the PM-10 nonattainment areas attained the NAAQS by that date. Determinations under section 179(c)(1) of the Act are to be based upon an area's “'air quality as of the attainment date”. Section 188(b)(2) is consistent with this requirement.

Generally, we will determine whether an area's air quality is meeting the PM-10 NAAQS for purposes of section 179(c)(1) and 188(b)(2) based upon data gathered at established state and local air monitoring stations (SLAMS) and national air monitoring sites (NAMS) in the nonattainment area and entered into the Aerometric Information Retrieval System (AIRS). Data entered into the AIRS has been determined to meet federal monitoring requirements (see 40 CFR 50.6, 40 CFR part 50 appendix J, 40 CFR part 53, 40 CFR part 58, appendices A & B) and may be used to determine the attainment status of areas. We will also consider air quality data from other air monitoring stations in the nonattainment area provided that the stations meet the federal monitoring requirements for SLAMS. All data are reviewed to determine the area's air quality status in accordance with our guidance at 40 CFR part 50, appendix K.

Attainment of the annual PM-10 standard is achieved when the annual arithmetic mean PM-10 concentration over a three year period (for example, 1998, 1999, and 2000 for areas with a December 31, 2000 attainment date) is equal to or less than 50 μg/m³. Attainment of the 24-hour standard is determined by calculating the expected number of days in a year with PM-10 concentrations greater than 150 μg/m³. The 24-hour standard is attained when the expected number of days with levels above 150 μg/m³ (averaged over a three year period) is less than or equal to one. Three consecutive years of air quality data are generally necessary to show attainment of the 24-hour and annual standard for PM-10. See 40 CFR part 50 and appendix K. A complete year of air quality data, as referred to in 40 CFR part 50, appendix K, is comprised of all 4 calendar quarters with each quarter containing data from at least 75 percent of the scheduled sampling days.

II. Basis for EPA's Proposed Action

A. What Is the History Behind This Proposed Action?

As moderate PM-10 nonattainment areas that were redesignated as such effective in 1994, Bullhead City, Payson, Sacramento and San Bernardino were required by CAA section 188 to attain the PM-10 NAAQS by December 31, 2000. As noted above, section 188 of the CAA requires EPA to determine whether such moderate areas have attained the NAAQS within six months of the attainment date.

B. How Did We Determine That These Areas Attained the PM-10 NAAQS?

1. Bullhead City

The Bullhead City PM-10 nonattainment area is located in northwestern Arizona in Mohave County. It encompasses 200 square miles and extends across mostly desert terrain interrupted by mesas and mountains. Bullhead City itself is a rapidly growing urbanized area of 43 square miles. The Colorado River and the Nevada/Arizona border form the western boundary of the nonattainment area.

Bullhead City's primary economic activities are tourism, the hydroelectric facility at Davis Dam, and the Mohave Generating Station, a coal-fired power plant on the Nevada side of the Colorado River. Bullhead City also provides housing for employees working at casinos in nearby Laughlin, Nevada. The annual average temperature is 85 degrees F and temperatures can reach 125 degrees F in the summer. Average rainfall is about 4 inches.

a. Air Quality Data

Bullhead City has one SLAMS monitor operated by the Arizona Department of Environmental Quality (ADEQ). The following table summarizes the one-in-six day PM-10 data collected from 1998—2000. We deemed the data from this site valid and the data has been submitted by the ADEQ to be included in AIRS.

Summary of 24 Hour and Annual PM-10 Concentrations (μg/m³) Bullhead City 1998-2000
| Year: 1998 * | Year: 1999 | Year: 2000
Maximum 24 hour concentration | 27 | 27 | 42
Annual average | 10 | 13 | 15
3-year annual average |  | 13 |
*PM-10 Concentrations in 1998 were reported to EPA under actual (or local) temperature and pressure conditions (LTP). The PM-10 NAAQS requires data to be adjusted to standard temperature and pressure (STP). When we revised the PM-10 NAAQS in 1997, we changed the method of calculating the concentration from STP to LTP. Arizona correctly switched the way it reported PM-10 data. When the 1997 PM-10 NAAQS was rescinded, States were to correct the data reported in 1998 from LTP to STP in order to be in compliance with the original PM-10 NAAQS which was now back in effect. Arizona has not completed the data revision at this time. The difference in the values reported as LTP or STP in this case is minor. If the 1998 data were revised we would expect the 24 hour values reported to increase by no more than 3-5 μg/m3. Because the data from Bullhead City is so low we do not believe the adjustment would affect our conclusion that the area has attained both the 24 hour and annual PM-10 NAAQS.

b. Determination That the Bullhead City PM-10 Nonattainment Area Attained the PM-10 NAAQS as of December 31, 2000

The PM-10 concentrations reported at the Bullhead City monitoring site showed no measured exceedance of the 24-hour PM-10 NAAQS between 1998 and 2000. Thus, the three-year average was less than 1.0, which indicates Bullhead City attained the 24-hour PM-10 NAAQS as of December 31, 2000.

Review of the annual standard for calendar years 1998, 1999 and 2000 reveals that Bullhead City also attained the annual PM-10 NAAQS by December 31, 2000. There was no violation of the annual standard for the three-year period from 1998 through 2000.

2. Payson

Payson, at an elevation of 4,848 feet, is located in northeast Arizona and has a population of approximately 8,000. Major economic activities in the area are the lumber industry and recreation. Sources of PM-10 emissions in Payson include wood smoke, unpaved roads, paved roads and other industrial/ miscellaneous sources.

a. Air Quality Data

The ADEQ operates a single SLAMS monitor in the Payson area. We deemed the data from this site valid and the data was submitted by Arizona to be included in AIRS.

The following table summarizes the one-in-six day PM-10 data collected from 1998 through 2000.

Summary of 24 Hour and Annual PM-10 Concentrations (μg/m³) Payson 1998-2000
| Year: 1998 * | Year: 1999 | Year: 2000
Maximum 24 hour concentration | 69 | 52 | 88
Annual average | 24 | 29 | 24
3-year annual average |  | 26 |
*PM-10 Concentrations in 1998 were reported to EPA under actual (or local) temperature and pressure conditions (LTP). The PM-10 NAAQS requires data to be adjusted to standard temperature and pressure (STP). When EPA revised the PM-10 NAAQS in 1997, we changed the method of calculating the concentration from STP to LTP. Arizona correctly switched the way it reported PM-10 data. When the 1997 PM-10 NAAQS was rescinded, States were to correct the data reported in 1998 from LTP to STP in order to be in compliance with the original PM-10 NAAQS which was now back in effect. Arizona has not completed the data revision at this time. The difference in the values reported as LTP or STP in this case is minor. If the 1998 data were revised we would expect the 24 hour values reported to increase by no more than 3-5 μg/m3. Because the data from Payson is far enough below the NAAQS we do not believe the adjustment would affect our conclusion that the area has attained both the 24 hour and annual PM-10 NAAQS.

b. Determination That the Payson PM-10 Nonattainment Area Attained the PM-10 NAAQS as of December 31, 2000

The PM-10 concentrations reported at the Payson monitoring site showed no measured exceedances of the 24-hour PM-10 NAAQS between 1998 and 2000, which indicates Payson attained the 24-hour PM-10 NAAQS as of December 31, 2000.

Review of the annual standard for calendar years 1998, 1999 and 2000 reveals that Payson also attained the annual PM-10 NAAQS by December 31, 2000. The monitoring site showed no violation of the annual standard in the three-year period from 1998 through 2000.

3. San Bernardino

The San Bernardino PM-10 nonattainment area that is the subject of this action includes the entire county excluding that portion of the county that is located in the Searles Valley Planning area,¹ and excluding that portion of the county that is located in the South Coast Air Basin.² The nonattainment area covers over 18,000 square miles, but includes only about 315,000 persons. The area is relatively rural with only a few densely populated centers of urban development, all of which are located in the southwest portion and contain 97 percent of the population. San Bernardino also contains two military bases, Twenty-Nine Palms and Fort Irwin National Training Center. The climate of the area is characteristic of a desert environment. Two mountain ranges block the desert from the cool moist coast air of the South Coast Air Basin. The region generally experiences hot dry summers and mild winters with very little annual rainfall.

¹ We have recently proposed to split the San Bernardino County portion of the Searles Valley planning area nonattainment area into its own nonattainment area (i.e., the Trona subregion) and to find that the Trona subregion has attained the standard (66 FR 31873, June 13, 2001.

² The portion of San Bernardino County that is located within the South Coast Air Basin is part of a PM-10 nonattainment area that is classified as “serious.”

Major PM-10 emissions sources in the past included city and county unpaved road travel, vehicle activity on Bureau of Land Management land, construction, paved road dust entrainment and windblown fugitive dust from disturbed areas.

a. Air Quality Data

The Mojave Desert Air Quality Management District, which has jurisdiction over the San Bernardino PM-10 nonattainment area, maintains five PM-10 monitoring stations which are located in the population centers. PM-10 monitoring is also ongoing at Fort Irwin and Twenty-nine Palms. We deemed the data from these sites valid and the data was submitted by California to be included in AIRS.

The following table summarizes the one-in-six day PM-10 data collected since 1998-2000.

Summary of PM-10 Air Quality San Bernardino County 1998-2000
Site | Highest 24 hour concentration (*μ/m³): 1998 | Highest 24 hour concentration (*μ/m³): 1999 | Highest 24 hour concentration (*μ/m³): 2000 | Annual average (*μ/m³) | 3-year annual average (*μ/m³): 1998 | 3-year annual average (*μ/m³): 1999 | 3-year annual average (*μ/m³): 2000
Barstow | 53 | 69 | 69 | 23 | 26 | 28 | 26
Lucerne Valley | 39 | 95 | 58 | 19 | 20 | 23 | 21
Victorville | 70 | 78 | 52 | 28 | 30 | 26 | 28
Twenty-nine Palms | 30 | 105 | 62 | 16 | 22 | 21 | 20
Hesperia | 70 | 109 | 80 | 26 | 32 | 34 | 31

b. Determination That the San Bernardino PM-10 Nonattainment Area Attained the PM-10 NAAQS as of December 31, 2000

The PM-10 concentrations reported at the five different monitoring sites showed no measured exceedances of the 24-hour PM-10 NAAQS between 1998 and 2000, which indicates San Bernardino attained the 24-hour PM-10 NAAQS as of December 31, 2000.

Review of the annual standard for calendar years 1998-2000 reveals that San Bernardino also attained the annual PM-10 NAAQS by December 31, 2000. No monitoring sites showed a violation of the annual standard in the three-year period from 1998 through 2000.

4. Sacramento

The Sacramento PM-10 nonattainment area comprises the entire county of Sacramento. The County is approximately 995 square miles and is located in the northern portion of the Central Valley of California. The area has experienced tremendous growth in population over the past twenty years. The major economic activity in the area is government services and retail trade, along with significant agricultural, industrial and construction industries.

a. Air Quality Data

The Sacramento Metropolitan Air Quality Management District, which has jurisdiction over the Sacramento PM-10 nonattainment area, maintains five PM-10 monitoring stations which are located in the Sacramento metropolitan area. The following table summarizes the one-in-six day PM-10 data collected from 1998-2000.

Summary of PM-10 Air Quality Sacramento County 1998-2000
Site | Highest 24 hour concentration (*μ/m ³): 1998 | Highest 24 hour concentration (*μ/m ³): 1999 | Highest 24 hour concentration (*μ/m ³): 2000 | Annual average (*μ/m ³) | 3-year annual average (*μ/m ³): 1998 | 3-year annual average (*μ/m ³): 1999 | 3-year annual average (*μ/m ³): 2000
North Highlands | 73 | 73 | 82 | 22 | 26 | 23 | 24
Del Paso | 104 | 141 | 58 | 22 | 27 | 21 | 23
Sacramento—Health Center | 79 | 88 | 86 | 23 | 25 | 31 | 26
Sacramento—Branch Center Rd. | 86 | 86 | 56 | 27 | 33 | 27 | 29
Sacramento—T Street | 75 | 99 | 64 | 23 | 29 | 25 | 26

b. Determination That the Sacramento PM-10 Nonattainment Area Attained the PM-10 NAAQS as of December 31, 2000

The PM-10 concentrations reported at the five different monitoring sites showed no measured exceedances of the 24-hour PM-10 NAAQS between 1998 and 2000, which indicates Sacramento attained the 24-hour PM-10 NAAQS as of December 31, 2000.

Review of the annual standard for calendar years 1998-2000 reveals that Sacramento also attained the annual PM-10 NAAQS by December 31, 2000. No monitoring sites showed a violation of the annual standard in the three-year period from 1998 through 2000.

III. EPA'S Proposed Action

Based on quality-assured data meeting the requirements of 40 CFR part 50, Appendix K, we propose to find that the Bullhead City and Payson nonattainment areas in Arizona and the Sacramento and San Bernardino nonattainment areas in California have attained the PM-10 NAAQS by their applicable attainment date of December 31, 2000. Consistent with CAA section 188, the areas will remain moderate PM-10 nonattainment areas and avoid the additional planning requirements that apply to serious PM-10 nonattainment areas.

This proposed action should not be confused with a redesignation to attainment under CAA section 107(d)(3) because we have not yet approved a maintenance plan as required under section 175(A) of the CAA or determined that the areas have met the other CAA requirements for redesignation. The designation status in 40 CFR part 81 will remain moderate nonattainment for all these areas until such time as Arizona and California meet the CAA requirements for redesignations to attainment.

IV. Administrative Requirements

A. General Requirements

Under Executive Order 12866 (58 FR 51735, October 4, 1993), this proposed action is not a “significant regulatory action” and therefore is not subject to review by the Office of Management and Budget. For this reason, this proposed action is also not subject to Executive Order 32111, “Actions Concerning Regulations That Significantly Affect Energy Supply, Distribution, or Use” (66 FR 28355, May 22, 2001). This proposed action merely makes a determination based on air quality data and does not impose any requirements. Accordingly, the Administrator certifies that this proposed rule will not have a significant economic impact on a substantial number of small entities under the Regulatory Flexibility Act (5 U.S.C. 601 et seq.). Because this proposed rule does not impose any additional enforceable duty, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely makes a determination based on air quality data and does not alter the relationship or the distribution of power and responsibilities established in the Clean Air Act. This proposed rule also is not subject to Executive Order 13045 (62 FR 19885, April 23, 1997), because it is not economically significant.

The requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This proposed rule does not impose an information collection burden under the provisions of the Paperwork Reduction Act of 1995 (44 U.S.C. 3501 et seq.).

List of Subjects in 40 CFR Part 81

Environmental protection, Air pollution control, National parks, Wilderness areas.

Dated: July 16, 2001.
Jane Diamond,
Acting Regional Administrator, Region 9.

Part 81, chapter I, title 40 of the Code of Federal Regulations is proposed to be amended as follows:

PART 81—[AMENDED]

1. The authority citation for part 81 continues to read as follows:

Authority: 42 U.S.C. 7401, et seq.

Subpart D—Arizona

2. In § 81.303, the table for Arizona-PM-10 is amended by revising the entry for Mohave County (part) to read as follows:

§ 81.303 Arizona.

* * * * *

Arizona—PM-10
Designated area | Designation: Date | Designation: Type | Classification: Date | Classification: Type
* * * * * * *
Mohave County (part):
Bullhead City: T21N, R20-21W, excluding Lake Mead National Recreation Area: T20N, R20-22W; T19N, R21-22W excluding Fort Mohave Indian Reservation | January 20, 1994 | Nonattainment | January 20, 1994 | Moderate.
* * * * * * *

* * * * *

[FR Doc. 01-18536 Filed 7-24-01; 8:45 am]

BILLING CODE 6560-50-P